DEPARTMENT OF COMMERCE

National Oceanic and Atmospheric Administration

[RTID 0648-XE357]

South Atlantic Fishery Management Council; Public Meetings

AGENCY: National Marine Fisheries Service (NMFS), National Oceanic and Atmospheric Administration (NOAA), Commerce.

ACTION: Notice of public meetings.

SUMMARY: The South Atlantic Fishery Management Council (Council) will hold three Best Fishing Practices Master Volunteer Program (BFP MVP) Workshops covering best fishing practices, specifically for snapper grouper species, how to get involved in Citizen Science projects, and how to get involved in the Council process.

DATES: The BFP MVP workshops are scheduled for November 19, 2024, November 20, 2024 and November 21, 2024. Workshops will begin at 5 p.m., local time. See SUPPLEMENTARY INFORMATION.

ADDRESSES:

Meeting addresses: The workshops will be held in Wilmington, NC; Morehead City, NC; and Cary, NC. See SUPPLEMENTARY INFORMATION.

Council address: South Atlantic Fishery Management Council, 4055 Faber Place Drive, Suite 201, N Charleston, SC 29405.

FOR FURTHER INFORMATION CONTACT: Ashley Oliver, Best Fishing Practices Outreach Specialist, SAFMC; phone: (843) 571-4366 or toll free: (866) SAFMC-10; fax: (843) 769-4520; email: ashley.oliver@safmc.net.

SUPPLEMENTARY INFORMATION: The Council is hosting a series of BFP MVP workshops along the South Atlantic coast throughout 2024. The workshops are designed to empower key members of the fishing community to share information on best fishing practices and opportunities to get involved in the Council process. Council staff will introduce the BFP MVP and the program's goals and objectives and share information on Best Fishing Practices including the topics of barotrauma and barotrauma mitigation devices. The workshop agenda also includes discussions of the Council's Citizen Science projects, an introduction to the regional fishery management councils, specifically the South Atlantic Fishery Management Council, and how to get involved in the federal fishery management process. If applicable, state agencies will share information pertaining to their fisheries management and BFP efforts. Throughout the workshop, attendees will have the opportunity to share their expertise and ideas with staff on improving outreach efforts in their community. A summary of the 2024 workshops will be provided to the Council for use in ongoing outreach efforts.

Workshop Locations:

Tuesday, November 19, 2024: Cape Fear Museum: 814 Market St., Wilmington, NC 28401; phone: (910) 798-4370;

Wednesday, November 20, 2024: Crystal Coast Civic Center: 203 College Cir, Morehead City, NC; phone: (561) 694-5431; and

Thursday, November 21, 2024: Bass Pro Shops: 801 Bass Pro Lane Cary, NC; phone: (252) 247-3883.

Special Accommodations

These meetings are physically accessible to people with disabilities. Requests for auxiliary aid should be directed to the Council office (see ADDRESSES) 5 days prior to the meeting.

Note: The times and sequence specified in this agenda are subject to change.

Authority: 16 U.S.C. 1801 et seq.

Dated: October 25, 2024.
Rey Israel Marquez,
Acting Deputy Director, Office of Sustainable Fisheries, National Marine Fisheries Service.

[FR Doc. 2024-25201 Filed 10-29-24; 8:45 am]

BILLING CODE 3510-22-P